DEPARTMENT OF JUSTICE

Antitrust Division

Notice Pursuant to the National Cooperative Research and Production Act of 1993—TM Forum

Notice is hereby given that, on April 17, 2025, pursuant to section 6(a) of the National Cooperative Research and Production Act of 1993, 15 U.S.C. 4301 et seq. (“the Act”), TM Forum, a New Jersey Non-Profit Corporation (“the Forum”), filed written notifications simultaneously with the Attorney General and the Federal Trade Commission disclosing changes in its membership. The notifications were filed for the purpose of extending the Act's provisions limiting the recovery of antitrust plaintiffs to actual damages under specified circumstances. Specifically, CableLabs, Inc., Louisville, CO; Orchest Automation, Weston, FL; Cantone Technology Co., Ltd., Guangzhou, PEOPLE'S REPUBLIC OF CHINA; Beijing Institute of Technology, Beijing, PEOPLE'S REPUBLIC OF CHINA; Beijing University of Technology, Beijing, PEOPLE'S REPUBLIC OF CHINA; Nabstract Technologies Private Limited, Mumbai, REPUBLIC OF INDIA; Salar FZE, Dubai, UNITED ARAB EMIRATES; Trafikverket, Borlänge, KINGDOM OF SWEDEN; Enhancesys Innovations Pvt Ltd, Bangalore, REPUBLIC OF INDIA; Alepo Technologies Inc., Austin, TX; Quintica, Johannesburg, REPUBLIC OF SOUTH AFRICA; labb ltd, Cambridge, UNITED KINGDOM; Hume Institute for Postgraduate Studies, Lausanne, SWISS CONFEDERATION; Centre for Development of Telematics, New Delhi, REPUBLIC OF INDIA; Fibercop S.p.A., Milan, ITALIAN REPUBLIC; Ocient, Chicago, IL; TAUSPACE, Fourways, REPUBLIC OF SOUTH AFRICA; STC Bahrain B.S.C., Seef District, KINGDOM OF BAHRAIN; and Naveen Suri Sole Proprietor, Plainsboro, NJ have been added as parties to this venture.

Also, Aaxis Digital, Los Angeles, CA; Atheeb intergraph Saudi Co., Riyadh, KINGDOM OF SAUDI ARABIA; Dawiyat, Riyadh, KINGDOM OF SAUDI ARABIA; Effortel Technologies, Brussels, KINGDOM OF BELGIUM; Everywhere Wireless LLC DBA Zentro, Chicago, IL; GAPASK Inc., Brossard, CANADA; GeoIdentity Inc., Los Gatos, CA; HAAMI Digital Consultancy, Dubai, UNITED ARAB EMIRATES; Innova Solutions Inc, Duluth, GA; IntegraTouch, Akron, OH; Juniper Networks Inc, Sunnyvale, CA; KDDI Research, Inc., Fujimino, JAPAN; Kumoco Ltd, London, UNITED KINGDOM; Mastec Quadgen Wireless LLP, Bangalore, REPUBLIC OF INDIA; Medula Consulting, LLC, Hallandale Beach, FL; Megron Tech Ltd, Swindon, UNITED KINGDOM; Moflix AG, Wollerau, SWISS CONFEDERATION; Shenzhen Netinfo Intelligent Technology Co., LTD., Shenzhen, PEOPLE'S REPUBLIC OF CHINA; Splunk, San Francisco, CA; Universidad Politécnica de Madrid—School of Computer Science—Computer Networks and Web Technologies Laboratory, Madrid, KINGDOM OF SPAIN; University of Padova and University of Genova—Computer Platform Research Center (CIPI), Genoa, ITALIAN REPUBLIC; and Xeotech Ltd., Watford, UNITED KINGDOM have withdrawn as parties to this venture.

In addition, the following members have changed their names: MYCOM OSI to Mycom, London, UNITED KINGDOM; ITgma to Modirum Platforms DOO, Skopje, REPUBLIC OF NORTH MACEDONIA; Enghouse Networks Limited to Enghouse Networks (US) Inc., Markham, CANADA; and Integrated Telecom Company to Etihad Salam Telecom Company, Riyadh, KINGDOM OF SAUDI ARABIA.

No other changes have been made to either the membership or planned activity of the group research project. Membership in this group research project remains open, and the Forum intends to file additional written notifications disclosing all changes in membership.

On October 21, 1988, the Forum filed its original notification pursuant to section 6(a) of the Act. The Department of Justice published a notice in the Federal Register pursuant to section 6(b) of the Act on December 8, 1988 (53 FR 49615).

The last notification was filed with the Department on February 12, 2025. A notice was published in the Federal Register pursuant to section 6(b) of the Act on February 28, 2025 (90 FR 10950).

Suzanne Morris,
Deputy Director Civil Enforcement Operations, Antitrust Division.

[FR Doc. 2025-10567 Filed 6-10-25; 8:45 am]

BILLING CODE 4410-11-P